DEPARTMENT OF TRANSPORTATION

Pipeline and Hazardous Materials Safety Administration

[PHMSA-2010-0196; Notice No. 10-4]

Revisions of the Emergency Response Guidebook

AGENCY: Pipeline and Hazardous Materials Safety Administration, DOT.

ACTION: Notice; request for comments.

SUMMARY: This notice advises interested persons that the Pipeline and Hazardous Materials Safety Administration (PHMSA) is soliciting comments on the development of the 2012 Emergency Response Guidebook (ERG2012), particularly from those who have experience using the 2008 Emergency Response Guidebook (ERG). The ERG is for use by emergency services personnel to provide guidance for initial response to hazardous materials incidents. The ERG2012 will supersede the ERG2008. The development of the ERG2012 is a joint effort involving the transportation agencies of the United States, Canada, and Mexico.

DATES: Comments must be received by September 21, 2010.

ADDRESSES: You may submit comments identified by the docket number PHMSA-2010-0196 (Notice No. 10-4) by any of the following methods:

• Federal e-Rulemaking Portal: Go to http://www.regulations.gov. Follow the online instructions for submitting comments.

• FAX: (1-202)-493-2251.

• Mail: Docket Operations, U.S. Department of Transportation, West Building, Ground Floor, Room W12-140, Routing Symbol M-30, 1200 New Jersey Avenue, SE., Washington, DC 20590-0001.

• Hand Delivery: To Docket Operations; Room W12-140 on the ground floor of the West Building, 1200 New Jersey Avenue, SE., Washington, DC 20590-0001, between 9 a.m. and 5 p.m., Monday through Friday, except Federal holidays.

Instructions: All submissions must include the agency name and docket number PHMSA-2010-0196 (Notice No. 10-4) for this notice. Note that all comments received will be posted without change to http://www.regulations.gov, including any personal information provided.

Docket: For access to the docket to read background documents and comments received, go to http://www.regulations.gov at any time or Room W12-140, Ground Level, Washington, DC, between 9 a.m. and 5 p.m., Monday through Friday, except Federal holidays.

FOR FURTHER INFORMATION CONTACT: Suzette Paes, Office of Hazardous Materials Initiatives and Training (PHH-50), Pipeline and Hazardous Materials Safety Administration (PHMSA), 1200 New Jersey Avenue, SE., Washington, DC 20590-0001. Telephone number: (202) 366-4900, e-mail: suzette.paes@dot.gov.

SUPPLEMENTARY INFORMATION:

A. Background and Purpose

The Federal hazardous materials transportation law, 49 U.S.C. 5101 et seq., authorizes the Secretary of Transportation (Secretary) to issue and enforce regulations deemed necessary to ensure the safe transport of hazardous materials in commerce. In addition, the law directs the Secretary to provide law enforcement and fire-fighting personnel with technical information and advice for responding to emergencies involving the transportation of hazardous materials.

PHMSA developed the Emergency Response Guidebook (ERG) for use by emergency services personnel to provide guidance for initial response to hazardous materials incidents. Since 1980, it has been the goal of PHMSA that all public emergency response vehicles (fire-fighting, police, and rescue squads) will carry a copy of the ERG. To date and without charge, PHMSA has distributed more than 11 million copies of the ERG to emergency service agencies. Since 1996, the Pipeline and Hazardous Materials Safety Administration (PHMSA), Transport Canada, and the Secretary of Communication and Transport of Mexico have developed the ERG as a joint effort. The ERG2012 will supersede the ERG2008 and will be published in English, French, and Spanish.

Publication of the ERG2012 will increase public safety by providing consistent emergency response procedures for hazardous materials incidents in North America. To continually improve the ERG, PHMSA is publishing this notice to actively solicit comments from interested parties on their experiences using the ERG2008 and on ways the ERG could be modified or improved.

B. Emergency Response Guidebook Questions:

To assist in the gathering of information, PHMSA solicits comments on ERG user concerns, experiences using the ERG2008, and on the following questions. We are also interested in any other comments stakeholders and users wish to provide.

1. In what way(s) does the ERG achieve its purpose to aid first responders in quickly identifying the specific or generic hazards of the materials(s) involved in the incident, and protecting themselves and the general public during the initial response phase of the incident?

2. How can the ERG be made more user-friendly for emergency responders? Please provide examples.

3. In what way(s) can the pictures, pictograms, and symbols shown in the ERG be used more effectively and efficiently?

4. What format(s) of the ERG are being used (hardcopy, electronic, on-line, etc.) and why?

5. How often is the ERG used in a hazmat emergency?

6. Is the most useful information emphasized effectively in the ERG2008 for its intended purpose?

7. How could the ERG be enhanced to better assist with go/no-go decision making while staying focused on its stated purpose? Please provide examples.

8. Have users experienced inconsistent guidance between utilizing the ERG and other sources of technical information? How could these inconsistencies be reconciled?

9. Are there ways the White Pages could be improved or enhanced? For example:

• How could or should sections of the ERG be combined or merged? Please explain and provide examples.

• What additional identification charts should be added, if any? What other subject matter should be addressed?

• Is the information provided in the Table of Placards, Rail Identification Chart and Road Trailer Identification Chart appropriate and correct? How could this information be made more useful and clear? Should other information be included or removed? If so, what information?

• Could current charts, and the information provided by those charts, be formatted in a more effective manner? How could they be improved to be more easily read and used?

• How could the Protective Clothing section be improved or enhanced? What additional information could be included or removed?

• In what way(s) could the information provided on chemical, biological, and radiological differences be improved upon or enhanced? What information could be included or removed?

• Are the terms listed in the Glossary appropriate and current? What additional terms should be added? What terms should be removed or changed?

• Are the sections of the White Pages in the appropriate sequence? If not, how should the information be organized?

10. Have any identification numbers or material names been incorrectly assigned or cross-referenced to each other in the Yellow or Blue Pages of the ERG2008?

11. In the Yellow or Blue Pages of the ERG2008, has any identification number and/or material name been assigned to an incorrect Guide number? If so, please note the identification number, material name, and the Guide number, and provide the correct information and reason for this change.

12. Are the recommendations and responses provided in each of the Orange Guide Pages appropriate to the material it's assigned to? If not, please explain and recommend a correction.

13. How could Table 1—“Initial Isolation and Protective Action Distances” and Table 2—“Water Reactive Materials Which Produce Toxic Gases,” or the Introduction and Description of each Table be modified or improved?

14. When calling any of the Emergency Response Telephone Numbers listed in the ERG2008, have there been any experiences with a busy telephone line, disconnection, or no response?

15. In terms of the usefulness of the ERG2008, has the type and quality of information been appropriate for the response needs? Please explain.

16. Are there emergency response providers not shown in the ERG2008 that have been used and found to be reliable that should be listed in the Emergency Response Telephone Numbers section? If so, who and why?

In addition to the specific questions asked in this Notice, PHMSA is also interested in any supporting data and analyses that will enhance the value of the comments submitted.

Issued in Washington, DC, on July 20, 2010 under the authority delegated in 49 CFR part 106.
R. Ryan Posten,
Senior Director for Hazardous Materials Safety.

[FR Doc. 2010-18134 Filed 7-22-10; 8:45 am]

BILLING CODE 4910-60-P